OFFICE OF GOVERNMENT ETHICS

Agency Information Collection Activities; Information Collection Renewal; Comment Request for OGE Form 319 Request for a Medical Exception to the Covid-19 Vaccination Requirement

AGENCY: Office of Government Ethics (OGE).

ACTION: Notice and request for comments.

SUMMARY: After publication of this second round notice, the Office of Government Ethics (OGE) plans to request that the Office of Management and Budget (OMB) renew its approval under the Paperwork Reduction Act for an existing information collection, entitled the OGE Form 319 Request for a Medical Exception to the Covid-19 Vaccination Requirement. The form was originally granted emergency clearance on November 19, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Jennifer Matis at the U.S. Office of Government Ethics; telephone: 202-482-9216; TTY: 800-877-8339; Email: jmatis@oge.gov. A copy of the form may be obtained, without charge, by contacting Jennifer Matis.

SUPPLEMENTARY INFORMATION:

Title: Request for a Medical Exception to the Covid-19 Vaccination Requirement.

Agency Form Number: OGE Form 319.

Abstract: The OGE Form 319 collects information necessary to document the consideration, decision, and implementation of OGE employee requests for reasonable accommodation from the COVID vaccination requirement set forth in Executive Order 14043, Requiring Coronavirus Disease 2019 Vaccination for Federal Employees (Sept. 9, 2021).

OMB Control Number: 3209-0011.

Type of Information Collection: Extension of a currently approved collection.

Type of Review Request: Regular.

Affected public: Medical providers who are asked to provide documentation in support of an employee's request for a medical exception to the requirement for COVID-19 vaccination.

Estimated Annual Number of Respondents: 1 (based on an estimate of five respondents over a ten year period, rounded up).

Estimated Time per Response: 10 minutes.

Estimated Total Annual Cost Burden (in dollars): 17.

A Federal Register Notice with a 60-day comment period soliciting comments on this information collection was published on February 10, 2022 (87 FR 7838). OGE received one response to that notice. The comment did not address the substance of information collection; it opposed it on the basis of the outstanding injunction against implementation of the vaccination requirement issued pursuant to E.O. 14043. As noted in the first notice and again below, OGE will not process requests for a medical exception or request the submission of any medical information related to a request for an exception pursuant to E.O. 14043 while the injunction remains in place. But OGE may nevertheless receive information regarding a medical exception. Therefore, clearance of the information collection is necessary.

Request for Comments: OGE is publishing this second round notice of its intent to request paperwork clearance renewal for the OGE Form 319. Public comment is invited specifically on the need for and practical utility of this information collection, the accuracy of OGE's burden estimate, the enhancement of quality, utility and clarity of the information collected, and the minimization of burden (including the use of information technology). Comments received in response will become a matter of public record.

A Notice Regarding Injunctions: The vaccination requirement issued pursuant to E.O. 14043 is currently the subject of a nationwide injunction. While that injunction remains in place, OGE will not process requests for a medical exception from the COVID-19 vaccination requirement pursuant to E.O. 14043. OGE will also not request the submission of any medical information related to a request for an exception from the vaccination requirement pursuant to E.O. 14043 while the injunction remains in place. But OGE may nevertheless receive information regarding a medical exception. That is because, if OGE were to receive a request for an exception from the COVID-19 vaccination requirement pursuant to E.O. 14043 during the pendency of the injunction, OGE will accept the request, hold it in abeyance, and notify the employee who submitted the request that implementation and enforcement of the COVID-19 vaccination requirement pursuant to E.O. 14043 is currently enjoined and that an exception therefore is not necessary so long as the injunction is in place. In other words, during the pendency of the injunction, any information collection related to requests for medical exception from the COVID-19 vaccination requirement pursuant to E.O. 14043 is not undertaken to implement or enforce the COVID-19 vaccination requirement.

Approved: April 20, 2022.
Emory Rounds,
Director, U.S. Office of Government Ethics.

[FR Doc. 2022-08754 Filed 4-22-22; 8:45 am]

BILLING CODE 6345-03-P